DEPARTMENT OF HEALTH AND HUMAN SERVICES

National Institutes of Health

National Institute on Deafness and Other Communication Disorders; Amended Notice of Meeting

Notice is hereby given of a change in the meeting of the National Institute on Deafness and Other Communication Disorders Special Emphasis Panel, April 28, 2009, 1 p.m. to April 28, 2009, 4 p.m., National Institutes of Health, Bethesda, MD which was published in the Federal Register on April 6, 2009, 7415501.

The meeting will be held April 29, 2009. The meeting is closed to the public.

Dated: April 15, 2009.
Jennifer Spaeth,
Director, Office of Federal Advisory Committee Policy.

[FR Doc. E9-9204 Filed 4-22-09; 8:45 am]

BILLING CODE 4140-01-M